DEPARTMENT OF DEFENSE

Office of the Secretary

[Docket ID: DoD-2012-OS-0111]

Privacy Act of 1974; Systems of Records

AGENCY: National Security Agency/Central Security Service, DoD.

ACTION: Notice to Amend a System of Records.

SUMMARY: The National Security Agency (NSA) is proposing to amend a system of records notice in its existing inventory of records systems subject to the Privacy Act of 1974 (5 U.S.C. 552a), as amended.

DATES: This proposed action will be effective on October 15, 2012 unless comments are received which result in a contrary determination. Comments will be accepted on or before October 15, 2012.

ADDRESSES: You may submit comments, identified by docket number and title, by any of the following methods:

• Federal Rulemaking Portal: http://www.regulations.gov. Follow the instructions for submitting comments.

• Mail: Federal Docket Management System Office, 4800 Mark Center Drive, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Kris Grein, National Security Agency/Central Security Service, Freedom of Information Act and Privacy Act Office, 9800 Savage Road, Suite 6248, Ft. George G. Meade, MD 20755-6248, or by phone at (301) 688-6527.

SUPPLEMENTARY INFORMATION: The National Security Agency/Central Security System systems of records notices subject to the Privacy Act of 1974 (5 U.S.C. 552a), as amended, have been published in the Federal Register and are available from the address in FOR FURTHER INFORMATION CONTACT. The specific changes to the records system being amended are set forth below followed by the notice, as amended, published in its entirety. The proposed amendment is not within the purview of subsection (r) of the Privacy Act of 1974 (5 U.S.C. 552a), as amended, which requires the submission of a new or altered system report.

Dated: September 10, 2012.
Aaron Siegel,
Alternate OSD Federal Register Liaison Officer, Department of Defense.

GNSA 25

System Name:

NSA/CSS Travel Records (June 8, 2009, 74 FR 27116).

Changes:

* * * * *

System location:

Delete entry and replace with “Primary location: National Security Agency/Central Security Service (NSA/CSS), 9800 Savage Road, Ft. George G. Meade, MD 20755-6000.

Decentralized segments: Defense Intelligence Agency (DIA) Headquarters and DIA field elements as authorized and appropriate. For official mailing address for any of the decentralized system locations, write to the National Security Agency/Central Security Service, Freedom of Information Act/Privacy Act Office, 9800 Savage Road, Suite 6248, Ft. George G. Meade, MD 20755-6248.”

* * * * *

Authority for maintenance of the system:

Delete entry and replace with “5 U.S.C. Chapter 57, Travel, Transportation and Subsistence; 10 U.S.C. Chapter 157, Transportation; 37 U.S.C. Section 481, Travel and Transportation Allowances: Administrative Provisions; 41 CFR, Chapters 300-304, the Federal Travel Regulations and E.O. 9397 (SSN), as amended.”

* * * * *

Notification procedure:

Delete entry and replace with “Individuals seeking to determine if records about themselves are contained in this record system should address written inquiries to the National Security Agency/Central Security Service, Freedom of Information Act and Privacy Act Office, 9800 Savage Road, Suite 6248, Ft. George G. Meade, MD 20755-6248.

Written inquires should include individuals full name, mailing address, telephone number and signature.”

Record access procedures:

Delete entry and replace with “Individuals seeking access to information about themselves contained in this system should address written inquiries to the National Security Agency/Central Security Service, Freedom of Information Act/Privacy Act Office, 9800 Savage Road, Suite 6248, Ft. George G. Meade, MD 20755-6248.

Written inquires should include individuals full name, address, telephone number and signature.”

Contesting record procedures:

Delete entry and replace with “The NSA/CSS rules for contesting contents and appealing initial determinations are published at 32 CFR part 322 or may be obtained by written request addressed to the Deputy Associate Director for Policy and Records, National Security Agency/Central Security Service, Freedom of Information Act/Privacy Act Office, 9800 Savage Road, Suite 6248, Ft. George G. Meade, MD 20755-6248.”

Record source categories:

Delete entry and replace with “Information is collected from the individual and the individual's supervisor, the hiring activity's personnel office, and from travel and expense forms.”

* * * * *

[FR Doc. 2012-22583 Filed 9-12-12; 8:45 am]

BILLING CODE 5001-06-P